DEPARTMENT OF HEALTH AND HUMAN SERVICES

Program Support Center

Agency Information Collection Activities: Submission for OMB Review; Comment Request

The Department of Health and Human Services, Program Support Center (PSC), publishes a list of information collections it has submitted to the Office of Management and Budget (OMB) for clearance in compliance with the Paperwork Reduction Act of 1995 (44 U.S.C. Chapter 35) and 5 CFR 1320.5. The following information collection was recently submitted to OMB:

1. Proposed Project: Application to the Board for Correction of Public Health Service (PHS) Commissioned Corps Records (PSC-54)—(OMB 0937-0095)—Extension.

An application is submitted by commissioned officers of the PHS Commissioned Corps, former officers, their spouses or heirs who appeal to the Board for Correction to request removal of an alleged error or injustice in an officer's record. The information submitted is used by the Board for Correction to determine if an error or injustice has occurred and to rectify such error or in justice. An appeal cannot be considered without the information furnished on this form. Respondents: Individuals or households and Federal employees. Total Number of Respondents: ten per calendar year. Number of Responses per Respondent: one response per request. Average Burden per Response: four hours. Estimated Annual Burden: 40 hours.

OMB Desk Officer: Allison Eydt.

Copies of the information collection package listed above can be obtained by calling the PSC Reports Clearance Officer on (301) 443-0433. Written commens and recommendations for the proposed information collection should be sent directly to the OMB desk officer designated above at the following address: Human Resources and Housing Branch, Office of Management and Budget, New Executive Office Building, Room 10235, 725 17th Street, NW., Washington, DC 20503.

Comments may also be sent to Irene S. West, PSC Reports Clearance Officer, Room 17A39, Parklawn Building, 5600 Fishers Lane, Rockville, MD 20857. Written comments should be received within 30 days of this notice.

Dated: July 18, 2002.
Curtis L. Coy,
Director, Program Support Center.

[FR Doc. 02-18974 Filed 7-25-02; 8:45 am]

BILLING CODE 4168-17-M